TENNESSEE VALLEY AUTHORITY

[Meeting No. 13-03]

Sunshine Act Meetings

The TVA Board of Directors will hold a public meeting on August 22, 2013, in the TVA West Tower Auditorium, 400 West Summit Hill Drive, Knoxville, Tennessee. Members of the public may comment on any agenda item or subject at a public listening session which begins at 8:30 a.m. (ET). Registration of speakers at the public listening session is required. Speakers may preregister at www.tva.com/abouttva/board/, or register on-site until 15 minutes before the public listening session begins. Preregistered speakers will address the Board first. Following the public listening session, the meeting will be called to order to consider the agenda items listed below. TVA management will answer questions from the news media following the Board meeting.

STATUS: Open.

Agenda

New Business

1. Actions by Consent Agenda

A. Approval of minutes of April 18, 2013, Board meeting.

B. Health savings account contract.

C. Pharmacy benefits manager contract.

D. Appointment of assistant corporate secretaries.

2. Chairman's report.

3. Report from President and CEO.

4. Report of the Finance, Rates, and Portfolio Committee.

A. FY 2014 financial plan and budget.

B. Rate actions.

C. Financing authority.

D. Hydro-modernization contract.

E. Transmission construction contract.

F. Economic Development—Valley Commitment Program.

5. Report of the Nuclear Oversight Committee.

A. Amendment of Commitment to Nuclear Safety policy.

6. Report of the People and Performance Committee.

A. Employee incentive programs and goals.

B. Committee charter amendment.

7. Report of the Audit, Risk, and Regulation Committee.

A. FY 2014 external auditor selection.

B. Amendment to the Retail Rate Review Process.

8. Report of the External Relations Committee.

A. Revision to Policy on Nonconforming Loads.

B. Regional Energy Resource Council membership.

FOR MORE INFORMATION: Please call TVA Media Relations at (865) 632-6000, Knoxville, Tennessee. People who plan to attend the meeting and have special needs should call (865) 632-6000. Anyone who wishes to comment on the agenda in writing may send their comments to: TVA Board of Directors, Board Agenda Comments, 400 West Summit Hill Drive, Knoxville, Tennessee 37902.

Dated: August 15, 2013.
Ralph E. Rodgers,
General Counsel and Secretary.

[FR Doc. 2013-20354 Filed 8-16-13; 11:15 am]

BILLING CODE 8120-08-P